DEPARTMENT OF TRANSPORTATION

Federal Aviation Administration

14 CFR Chapter I

Change in EST Usage in Notice to Airmen (NOTAM)

AGENCY: Federal Aviation Administration (FAA), DOT.

ACTION: Policy change.

SUMMARY: This document provides clarity and guidance regarding the use of the contraction “EST”, which stands for “Estimated”, when appended to the end of validity time in a NOTAM. The FAA is taking this action to align NOTAM policy with International Civil Aviation Organization (ICAO) standards and recommended practices.

DATES: Effective date: December 15, 2015.

FOR FURTHER INFORMATION CONTACT: Gary Bobik (202-267-6524; gary.ctr.bobik@faa.gov) or Lynette Jamison (540-422-4761; lynette.m.jamison@faa.gov)

SUPPLEMENTARY INFORMATION:

Background

The Federal Aviation Administration (FAA) Flight Services is revising FAA Order JO 7930.2, Notices to Airmen (NOTAM), which is scheduled to become effective no later than December 15, 2015.

The following paragraphs will be incorporated into the next revision of FAA Order JO 7930.2.

Paragraph 4-2-1a-14, Start of Activity/End of Validity, is “a 10-digit date-time group (YYMMDDHHMM) used to indicate the time at which the NOT AM comes into force (the date/time a condition will exist or begin) and the time at which the NOTAM ceases to be in force and becomes invalid (the expected return to service, return to normal status time, or the time the activity will end).”

Paragraph 4-2-1a-14(a) further specifies, that if the NOTAM duration is expected to return to service prior to the End of Validity time, express the time by using a date- time group followed immediately by EST. The NOTAM Originator must cancel or replace any NOTAM that includes an EST before the NOTAM reaches its End of Validity time, as the NOTAM will now auto expire at the end of validity time, regardless of EST.

Issued in Washington, DC, on September 23, 2015.
Ernie Bilotto,
Manager, U.S. NOTAMs.

[FR Doc. 2015-25192 Filed 10-2-15; 8:45 am]

BILLING CODE 4910-13-P